FEDERAL COMMUNICATIONS COMMISSION

Sunshine Act Meeting; FCC to Hold Public Hearing and Open Commission Meeting

Thursday, June 12, 2008.

The Federal Communications Commission will hold a Public Hearing on Early Termination Fees, WT Docket No. 05-194 and related issues, on Thursday, June 12, 2008 at 10 a.m. in Room TW-C305, at 445 12th Street, SW., Washington, DC. The Sunshine period will not apply to this matter since the Commission is not considering an item. The Public Hearing will be immediately followed by an Open Meeting, subject to our Sunshine rules, 47 CFR 1.1203, on the subjects listed below.

Item No. | Bureau | Subject
1 | Consumer & Governmental Affairs | Title: Rules and Regulations Implementing the Telephone Consumer Protection Act of 1991 (CG Docket No. 02-278.
|  | Summary: The Commission will consider a Report and Order concerning the current 5-year registration period for Do-Not-Call Registry.
2 | Consumer & Governmental Affairs | Title: Telecommunications Relay Services and Speech-to-Speech Services for Individuals with Hearing and Speech Disabilities (CG Docket No. 03-123).
|  | Summary: The commission will consider a Notice of Proposed Rulemaking seeking comment on issues concerning the provision of Speech-to-Speech, a form of Telecommunications Relay Service.
3 | Consumer & Governmental Affairs | Title: Telecommunications Relay Services and Speech-to-Speech Services for Individuals with Hearing and Speech Disabilities; E911 Requirements for Individuals with Hearing and Speech Disabilities (CG Docket No. 03-123 and WC Docket No. 05-196).
|  | Summary: The Commission will consider a Report and Order and Further Notice of Proposed Rulemaking Concerning a Ten-Digit Numbering :Plan for Internet-Based TRS.
4 | Wireless Telecommunications | Title: Skype Communications S.A.R.L. Petition to Confirm a Consumer's Right to Use Internet Communications Software and Attach Devices to Wireless Networks (RM-11361).
|  | Summary: The Commission will consider an Order that would address the Skype Communications S.A.R.L. Petition to Confirm a Consumer's Right to Use Internet Communications Software and Attach Devices to Wireless Networks.

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Dated: June 5, 2008.
Federal Communications Commission.
Marlene H. Dortch,
Secretary.

[FR Doc. 08-1343 Filed 6-6-08; 12:33pm]

BILLING CODE 6712-01-P